DEPARTMENT OF ENERGY

Federal Energy Regulatory Commission

[Project No. 13872-000]

Renew Hydro, LLC; Notice of Preliminary Permit Application Accepted for Filing and Soliciting Comments, Motions To Intervene, and Competing Applications

On October 19, 2010, Renew Hydro, LLC filed an application for a preliminary permit, pursuant to section 4(f) of the Federal Power Act (FPA), proposing to study the feasibility of the Hepburn Street Dam Hydroelectric Project to be located on the West Branch of the Susquehanna River in the vicinity of South Williamsport in Lycoming County, Pennsylvania. The sole purpose of a preliminary permit, if issued, is to grant the permit holder priority to file a license application during the permit term. A preliminary permit does not authorize the permit holder to perform any land-disturbing activities or otherwise enter upon lands or waters owned by others without the owners' express permission.

The proposed project would utilize the existing State of Pennsylvania's Hepburn Street Dam and would consist of the following: (1) Six very low head turbines rated at 500-kilowatts each; (2) a new powerhouse; (3) a crest-mounted walkway carrying hydraulic and electrical conduits; (4) one 600-foot-long and one 300-foot-long transmission line; and (5) appurtenant facilities. The estimated annual generation of the Hepburn Street Dam Hydroelectric Project would be 15,768,000 kilowatt-hours.

Applicant Contact: John E. Marciszewski, General Manager, Renew Hydro, LLC, 1800 Route 34, Suite 101, Wall, NJ 07719, phone: (908) 420-2369, e-mail: john@renewhydro.com.

FERC Contact: Brandi Sangunett (202) 502-8393.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13872-000) in the docket number field to access the document. For assistance, contact FERC Online Support.

Dated: April 22, 2011.
Kimberly D. Bose,
Secretary.

[FR Doc. 2011-10309 Filed 4-28-11; 8:45 am]

BILLING CODE 6717-01-P